DEPARTMENT OF COMMERCE

International Trade Administration

[A-570-846]

Brake Rotors from the People's Republic of China: Initiation of Tenth New Shipper Antidumping Duty Review

AGENCY: Import Administration, International Trade Administration, Department of Commerce.

SUMMARY: The Department of Commerce received two requests in October 2003 to conduct a new shipper review of the antidumping duty order on brake rotors from the People's Republic of China (“PRC”). In accordance with 19 CFR 351.214(d), we are initiating a new shipper review for one of the two companies that requested such a review: Shenyang Yinghao Machinery Co., Ltd., a producer and exporter of brake rotors from the PRC.

EFFECTIVE DATE: December 2, 2003.

FOR FURTHER INFORMATION CONTACT: Brian Smith or Sophie Castro, Import Administration, International Trade Administration, U.S. Department of Commerce, 14th Street and Constitution Avenue, N.W., Washington, D.C. 20230; telephone (202) 482-1766 or (202) 482-0588, respectively.

SUPPLEMENTARY INFORMATION:

Background

In October 2003, the Department received timely requests from: (1) Shenyang Yinghao Machinery Co., Ltd. (“Shenyang Yinghao”); and (2) Longkou Jinzheng Machinery Co. (“Longkou Jinzheng”), in accordance with 19 CFR 351.214(c), for a new shipper review of the antidumping duty order on brake rotors from the PRC, which has an October semi-annual anniversary month.

Shenyang Yinghao identified itself as the exporter and producer of the subject merchandise for which it requested a new shipper review. As required by 19 CFR 351.214(b)(2)(i), and (iii)(A), Shenyang Yinghao certified that it did not export certain preserved mushrooms to the United States during the period of investigation (“POI”), and that it has never been affiliated with any exporter or producer which did export certain preserved mushrooms during the POI. Shenyang Yinghao further certified that its export activities are not controlled by the central government of the PRC, satisfying the requirements of 19 CFR 351.214(b)(2)(iii)(B). Pursuant to 19 CFR 351.214(b)(2)(iv)(A), Shenyang Yinghao provided the date of the first sale to an unaffiliated customer in the United States. Shenyang Yinghao submitted documentation establishing the date on which it first shipped the subject merchandise to the United States, and the volume and date of entry of that shipment.

In accordance with section 751(a)(2)(B) of the Tariff Act of 1930 (“the Act”), as amended, and 19 CFR 351.214(b), and based on our analysis of the information and documentation provided with Shenyang Yinghao's new shipper review request, as well as our analysis of proprietary import data from U.S. Customs and Border Protection (“Customs”), we find that Shenyang Yinghao has met the requirements under which the Department can initiate a new shipper review (for more details, see New Shipper Initiation Checklist for Shenyang Yinghao). Therefore, we are initiating a new shipper review for Shenyang Yinghao.

While Longkou Jinzheng identified itself as both an exporter and producer of brake rotors from the PRC in its new shipper review request, the certifications it provided in conjunction with its request under 19 CFR 357.214(b)(2) did not comport with this claim. Specifically, while Longkou Jinzheng did provide the certification required by 19 CFR 351.214(b)(2)(i) and 351.214(b)(2)(iii)(A) and (B), it also provided a similar certification for a company named Longkou City Zhengzhuang Foundry Plant. Longkou Jinzheng, however, failed to identify the role of this company with respect to the transaction for which Longkou Jinzheng requested the new shipper review, thereby confusing the identity of the exporter and producer relevant to this new shipper review request. In addition, Longkou Jinzheng also provided a third certification that appeared to reflect the requirement for a non-producing exporter under 19 CFR 351.214(b)(2)(ii)(B) and 351.214(b)(2)(iii)(A) and (B), further confusing the identity of the producer. As a result, we were unable to determine the appropriate exporter/producer combination subject to this new shipper review request.

Consequently, based on our analysis of the information and documentation provided with Longkou Jinzheng's new shipper review request, we find that Longkou Jinzheng did not properly identify the exporter and producer of the subject merchandise and therefore does not meet the requirements under which the Department can initiate a new shipper review. Thus, we are not initiating a new shipper review for Longkou Jinzheng (for more details, see New Shipper Initiation Checklist for Longkou Jinzheng).

In cases involving non-market economies (“NMEs”), it is the Department's normal practice to require that a company seeking to establish eligibility for an antidumping duty rate separate from the country-wide rate provide de jure and de facto evidence of an absence of government control over the company's export activities (see Natural Bristle Paintbrushes and Brush Heads from the PRC, 68 FR 57875 (October 7, 2003), see also Honey from the PRC, 68 FR 47537 (August 11, 2003)). Accordingly, we will issue a questionnaire to Shenyang Yinghao (including a complete separate rates section), allowing approximately 37 days for response.¹ If the response from the respondent provides sufficient indication that it is not subject to either de jure or de facto government control with respect to its exports of brake rotors, the review will proceed. If the respondent does not demonstrate its eligibility for a separate rate, then it will be deemed to be affiliated with other companies that exported during the POI and that it did not establish entitlement to a separate rate, and the review of that respondent will be rescinded. See 19 CFR 351.214(f)(2).

¹ While Shenyang Yinghao has preliminarily responded to Section A of the Department's NME questionnaire (separate rates section) in Exhibit 3 of its October 31, 2003 initiation request, we will nonetheless issue Shenyang Yinghao a complete NME questionnaire subsequent to this initiation.

Initiation of Review

In accordance with section 751(a)(2)(B)(ii) of the Act and 19 CFR 351.214(d)(1), we are initiating a new shipper review of the antidumping duty order on brake rotors from the PRC. We intend to issue the preliminary results of this review not later than 180 days after the date on which the review is initiated.

In accordance with 19 CFR 351.214(g)(1)(i)(B), the POR for a new shipper review, initiated in the month following the semi-annual anniversary month, will be the six-month period immediately proceeding the semi-annual anniversary month. Therefore, the POR for this new shipper review is:

Antidumping Duty New Shipper Review Proceeding | Period to be Reviewed
PRC: Brake Rotors, A-570-846:
Shenyang Yinghao Machinery Co., Ltd. | 4/01/03 - 09/30/03

We will instruct Customs to allow, at the option of the importer, the posting, until the completion of the review, of a bond or security in lieu of a cash deposit for each entry of the subject merchandise from the above-listed company. This action is in accordance with section 751(a)(2)(B)(iii) of the Act, as amended, and 19 CFR 351.214(e). Because Shenyang Yinghao has certified that it both produces and exports the subject merchandise, the sale of which was the basis for its new shipper review request, we will apply the bonding privilege only to entries of subject merchandise for which it is both the producer and exporter.

Interested parties that need access to proprietary information in this new shipper review should submit applications for disclosure under administrative protective order in accordance with 19 CFR 351.305 and 351.306.

This initiation and notice are in accordance with section 751(a)(2)(B) of the Act (19 USC 1675(a)) and 19 CFR 351.214(d).

Dated: November 25, 2003.
Jeffrey May,
Deputy Assistant Secretary for Import Administration.

[FR Doc. 03-30001 Filed 12-01-02; 8:45 am]

BILLING CODE 3510-DS-S